DEPARTMENT OF COMMERCE

International Trade Administration

[A-570-879]

Polyvinyl Alcohol From the People's Republic of China: Notice of Final Results of Antidumping Duty Changed Circumstances Review

AGENCY: Enforcement and Compliance, International Trade Administration, Department of Commerce.

SUMMARY: On March 4, 2019, the Department of Commerce (Commerce) initiated, and published the preliminary results of, the changed circumstances review of the antidumping duty order on polyvinyl alcohol (PVA) from the People's Republic of China (China). For these final results, Commerce continues to find that Sinopec Chongqing SVW Chemical Co., Ltd. (SVW) is the successor-in-interest to Sinopec Sichuan Vinylon Works (Sichuan SVW).

DATES: Effective April 18, 2019.

FOR FURTHER INFORMATION CONTACT: Charles Doss, AD/CVD Operations, Office III, Enforcement and Compliance, International Trade Administration, U.S. Department of Commerce, 1401 Constitution Avenue NW, Washington, DC 20230; telephone: 202-482-4474.

SUPPLEMENTARY INFORMATION:

Background

On October 1, 2003, Commerce published in the Federal Register an antidumping duty order on PVA from China.¹ On December 7, 2018, SVW, a foreign producer and exporter of PVA from China, and Wego Chemical and Mineral Corp. (Wego), an importer of PVA from China (collectively, SVW and Wego) requested that, pursuant to section 751(b)(1) of the Tariff Act of 1930, as amended (the Act) and 19 CFR 351.216(b), Commerce conduct an expedited changed circumstances review of the Order to confirm that SVW is the successor-in-interest to Sichuan SVW and, accordingly, to assign SVW the cash deposit rate of Sichuan SVW.² In its submission, SVW and Wego explain that Sinopec Sichuan Vinylon Works (i.e., Sichuan SVW) has changed its name to Sinopec Chongqing SVW Chemical Co., Ltd. (i.e., SVW), and aver that no substantive changes other than this change of name have otherwise occurred.³

¹ See Antidumping Duty Order: Polyvinyl Alcohol from the People's Republic of China, 68 FR 56620 (October 1, 2003) (the Order).

² See SVW and Wego's letter, “Polyvinyl Alcohol from China: Request for Changed Circumstances Review,” dated December 12, 2018.

³ Id. at 1-4.

On March 4, 2019, we initiated this changed circumstances review and published the notice of preliminary results, determining that SVW is the successor-in-interest to Sichuan SVW.⁴ In the Initiation and Preliminary Results, we provided all interested parties with an opportunity to comment and request a public hearing regarding our preliminary finding.⁵ We received no comments or requests for a public hearing from interested parties within the time period set forth in the Initiation and Preliminary Results. The current deadline for issuance of these final results of antidumping duty change circumstances review is April 12, 2019.

⁴ See Polyvinyl Alcohol From the People's Republic of China: Initiation and Preliminary Results of Antidumping Duty Changed Circumstances Review, 84 FR 7337 (March 4, 2019) (Initiation and Preliminary Results).

⁵ Id., 84 FR at 7339.

Scope of the Order

The merchandise covered by the order is PVA. This product consists of all PVA hydrolyzed in excess of 80 percent, whether or not mixed or diluted with commercial levels of defoamer or boric acid.⁶

⁶ For a complete description of the scope of the antidumping duty order, see the “Scope of the Order” section of the Initiation and Preliminary Results, 84 FR at 7337-7338.

Final Results of Changed Circumstances Review

For the reasons stated in the Initiation and Preliminary Results, and because we received no comments from interested parties to the contrary, Commerce continues to find that SVW is the successor-in-interest to Sichuan SVW.⁷ As a result of this determination and consistent with established practice, we find that SVW should receive the cash deposit rate previously assigned to Sichuan SVW in the most recently-completed segment of the Order in which Sichuan SVW was under review.⁸ As the rate calculated for Sichuan SVW in that review was de minimis (0.00 percent), Commerce will instruct U.S. Customs and Border Protection that no cash deposit shall be required for subject merchandise exported by SVW and entered, or withdrawn from warehouse, for consumption on or after the publication date of this notice in the Federal Register. This cash deposit requirement shall remain in effect until further notice.

⁷ Id. at 7338-7339.

⁸ See Polyvinyl Alcohol from the People's Republic of China; Final Results of Antidumping Duty Administrative Review, 71 FR 62086 (October 23, 2006).

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing this determination and publishing these final results and notice in accordance with sections 751(b)(1) and 777(i)(1) and (2) of the Act, and 19 CFR 351.216 and 351.221(c)(3).

Dated: April 2, 2019.
Christian Marsh,
Deputy Assistant Secretary for Enforcement and Compliance.

[FR Doc. 2019-07804 Filed 4-17-19; 8:45 am]

BILLING CODE 3510-DS-P